NUCLEAR REGULATORY COMMISSION

[Docket No. 40-8943-MLA-2; ASLBP No. 13-926-01-MLA-BD01]

Notice (Regarding Weapons at Atomic Safety and Licensing Board Proceeding); In the Matter of Crow Butte Resources, Inc. (Marsland Expansion Area)

July 27, 2018.

Atomic Safety and Licensing Board Panel

Before the Licensing Board: G. Paul Bollwerk, III, Chairman, Dr. Richard E. Wardwell, Dr. Thomas J. Hirons

Notice is hereby given that the rules and policies regarding the possession of weapons in United States Courthouses and United States Federal Buildings in the State of Nebraska shall apply to all proceedings conducted in governmental or private facilities in Nebraska by the Atomic Safety and Licensing Board of the U.S. Nuclear Regulatory Commission.

Accordingly, no person other than federal law enforcement personnel or law enforcement personnel from the Dawes County Sheriff's Department, or any other authorized Nebraska state or local law enforcement organization, while performing official duties, shall wear or otherwise carry a firearm, edged weapon, impact weapon, electronic control device, chemical weapon, ammunition, or other dangerous weapon into the limited appearance session scheduled at the Chadron State College Student Center in Chadron, Nebraska, on Sunday, October 28, 2018, or the evidentiary hearing scheduled to begin on Tuesday, October 30, 2018, at the Crawford Community Building in Crawford, Nebraska.

This notice does not apply to state or local law enforcement officers responding to a call for assistance from within the Chadron State College Student Center or the Crawford Community Building.

For the Atomic Safety and Licensing Board.
Dated: Rockville, Maryland, July 27, 2018.
George P. Bollwerk III,
Chairman, Administrative Judge.

[FR Doc. 2018-16545 Filed 8-1-18; 8:45 am]

BILLING CODE 7590-01-P